DEPARTMENT OF ENERGY

Southeastern Power Administration

Jim Woodruff Project

AGENCY: Southeastern Power Administration, DOE.

ACTION: Notice of Proposed Rate Adjustment.

SUMMARY: Southeastern proposes a new rate schedule JW-1-J to replace Wholesale Power Rate Schedules JW-1-I for a five-year period from September 20, 2011, to September 19, 2016. Rate schedule JW-1-J would be applicable to Southeastern power sold to existing preference customers in the Florida Power Corporation service (Progress Energy) area. In addition, Southeastern proposes to extend Rate schedule JW-2-F, applicable to Florida Power Corporation, to September 19, 2016.

DATES: Written comments are due on or before May 18, 2011. A public information and public comment forum will be held at Courtyard by Marriott, in Tallahassee, Florida, at 10 a.m. on March 29, 2011. Persons desiring to speak at the forum are requested to notify Southeastern at least seven (7) days before the forum is scheduled so that a list of forum participants can be prepared. Others present may speak if time permits. Persons desiring to attend the forum should also notify Southeastern at least seven (7) days before the forum is scheduled. If Southeastern has not been notified by close of business on March 22, 2011, that at least one person intends to be present at the forum, the forum will be canceled with no further notice.

ADDRESSES: Written comments should be submitted to: Kenneth E. Legg, Administrator, Southeastern Power Administration, Department of Energy, 1166 Athens Tech Road, Elberton, Georgia 30635-6711. The public comment Forum will meet at the Courtyard by Marriott, 1018 Apalachee Parkway, Tallahassee, Florida, 32301 Phone: (850) 222-8822.

FOR FURTHER INFORMATION CONTACT: J. W. Smith, Southeastern Power Administration, Department of Energy, 1166 Athens Tech Road, Elberton, Georgia 30635-6711, (706) 213-3800.

SUPPLEMENTARY INFORMATION: Existing rate schedules are supported by a July 2009 Repayment Study and other supporting data contained in FERC Docket No. EF09-3031-000. A repayment study prepared in January 2011 shows that the existing rates are adequate to meet repayment criteria. However, the Jim Woodruff preference customers have asked Southeastern to revise the rates to include a pass-through of purchased power expenses. The capacity and energy charges to preference customers can be reduced because purchased power expenses will be recovered in a separate, pass-through charge to the affected customers.

In the proposed rate schedule JW-1-J, which is available to preference customers, the capacity charge would be reduced from $13.06 per kilowatt per month to $10.29 per kilowatt per month. The energy charge would be reduced from 32.07 mills per kilowatt-hour to 26.51 mills per kilowatt-hour. Rate schedule JW-2-F, available to Florida Power Corporation (FPC), would continue the rate of 100 percent of FPC's fuel cost.

In addition to the capacity and energy charges, each preference customer would be charged for power purchased by Southeastern on behalf of the preference customer. This pass-through would be computed as follows:

On or about the 20th of each month, Progress Energy would provide Southeastern with the meter readings for preference customers' delivery points that have an allocation of capacity from Southeastern. Subsequently, Progress Energy would provide Southeastern with reports of purchased power and support capacity requirements around the 10th of the succeeding month. Southeastern would compute its purchased power obligation for each delivery point monthly. Southeastern would compute any revenue from sales to Progress Energy for each delivery point monthly. Southeastern would sum the purchased power obligation and any revenue from sales to Progress Energy for each preference customer monthly. The purchased power obligation minus any revenue from sales to Progress Energy for each customer would be called the Net Purchased Power Cost. Southeastern would charge each customer its respective monthly Net Purchased Power Cost in equal portions over the next eleven (11) billing months. This computation of the pass-through would begin twelve (12) months before the pass-through is implemented. The first bill prepared using this method would include the computations for the previous twelve (12) months.

The proposed rate schedules are available for examination at 1166 Athens Tech Road, Elberton, Georgia, 30635-6711, as is the January 2011 repayment study.

Dated: February 9, 2011.
Kenneth E. Legg,
Administrator.

[FR Doc. 2011-3596 Filed 2-16-11; 8:45 am]

BILLING CODE 6450-01-P